DEPARTMENT OF THE INTERIOR

Fish and Wildlife Service

50 CFR Part 17

RIN 1018-AT65

Endangered and Threatened Wildlife and Plants; Establishment of an Additional Manatee Protection Area in Lee County, FL

AGENCY: Fish and Wildlife Service, Interior.

ACTION: Final rule; correction.

SUMMARY: We, the Fish and Wildlife Service (Service), are correcting a typographical error in the final rule promulgated on April 7, 2005, to establish an additional manatee protection area in Lee County, Florida (Pine Island—Estero Bay Manatee Refuge). This correction is not substantive.

DATES: Effective April 4, 2005.

ADDRESSES: The complete file for this rule is available for inspection, by appointment, during normal business hours from 8 a.m. to 4:30 p.m. at the South Florida Field Office, U.S. Fish and Wildlife Service, 1339 20th Street, Vero Beach, Florida 32960.

FOR FURTHER INFORMATION CONTACT: Jay Slack or Kalani Cairns (see ADDRESSES section), telephone 772/562-3909; or visit our Web site at http://verobeach.fws.gov.

SUPPLEMENTARY INFORMATION: On April 7, 2005, we, the Service, promulgated a final rule (70 FR 17864) to establish the Pine Island—Estero Bay Manatee Refuge in Lee County, Florida. Because we made a typographical error in the regulatory text of the rule, we introduced an incorrect coordinate into the description of the Pine Island—Estero Bay Manatee Refuge. We correct this error now. This change is not substantive.

List of Subjects in 50 CFR Part 17

Endangered and threatened species, Exports, Imports, Reporting and recordkeeping requirements, Transportation.

Regulation Correction

For reasons set forth in the preamble, we correct 50 CFR part 17 by making the following correcting amendment:

PART 17—[CORRECTED]

1. The authority citation for part 17 continues to read as follows:

Authority: 16 U.S.C. 1361-1407; 16 U.S.C. 1531-1544; 16 U.S.C. 4201-4245; Pub. L. 99-625, 100 Stat. 3500; unless otherwise noted.

§ 17.108 [Corrected]

2. In § 17.108, amend paragraph (c)(13)(B) by removing “81°05′09″ West” and adding in its place 82°05′09″ West”.

Dated: May 17, 2005.
Sara Prigan,
Fish and Wildlife Service Federal Register Liaison.

[FR Doc. 05-10176 Filed 5-20-05; 8:45 am]

BILLING CODE 4310-55-P